DEPARTMENT OF ENERGY

Federal Energy Regulatory Commission

[Docket Nos. ER09-88-000; ER09-88-001]

Southern Company Services, Inc.; Notice of FERC Staff Attendance

February 12, 2009.

The Federal Energy Regulatory Commission (Commission) hereby gives notice that on February 13, 2009 at 10:30 a.m. (EDT), members of its staff will participate in a seminar and interactive webcast relating to the Southern Company Energy Auction. The agenda and other documents for the webcast are available through the Southern Company Services, Inc. (Southern Company) Web site, http://www.southerncompany.com/energyauction/. Sponsored by Southern Company, the webcast is open to all market participants. Commission staff's attendance is part of the Commission's ongoing monitoring of Southern Company's development of the Southern Company Energy Auction. The webcast may discuss matters at issue in the above-captioned dockets.

For further information, contact David Hunger at david.hunger@ferc.gov, (202) 502-8148 or Mariana Cruz at mariana.cruz@ferc.gov, (202) 502-6307.

Kimberly D. Bose,
Secretary.

[FR Doc. E9-3688 Filed 2-20-09; 8:45 am]

BILLING CODE 6717-01-P